DEPARTMENT OF COMMERCE

International Trade Administration

[C-489-840]

Common Alloy Aluminum Sheet From the Republic of Turkey: Preliminary Results of the 2020-2021 Administrative Review

AGENCY: Enforcement and Compliance, International Trade Administration, Department of Commerce.

SUMMARY: The U.S. Department of Commerce (Commerce) preliminarily determines that countervailable subsidies were provided to producers and/or exporters of common alloy aluminum sheet (CAAS) from the Republic of Turkey (Turkey), during the period of review (POR) August 14, 2020, through December 31, 2021. Interested parties are invited to comment on these preliminary results.

DATES: Applicable May 10, 2023.

FOR FURTHER INFORMATION CONTACT: Daniel Alexander, AD/CVD Operations, Office VII, Enforcement and Compliance, International Trade Administration, U.S. Department of Commerce, 1401 Constitution Avenue NW, Washington, DC 20230; telephone: (202) 482-4313.

SUPPLEMENTARY INFORMATION:

Background

On June 9, 2022, Commerce initiated this administrative review of the countervailing duty order on CAAS from Turkey.¹ The mandatory respondents are Assan Aluminyum Sanayi ve Ticaret A.S., Kibar Americas, Inc., Kibar Dis Ticaret A.S. (collectively, Assan) and Teknik Aluminyum Sanayi A.S. (Teknik). On December 2, 2022, Commerce extended the time limit for these preliminary results to April 28, 2023.²

¹ See Initiation of Antidumping and Countervailing Duty Administrative Reviews, 87 FR 35165 (June 9, 2022).

² See Memorandum, “Common Alloy Aluminum Sheet from the Republic of Turkey: Extension of Deadline for Preliminary Results of 2020-2021 Countervailing Duty Administrative Review,” dated December 2, 2022.

For a complete description of the events that followed the initiation of this review, see the Preliminary Decision Memorandum.³ A list of topics discussed in the Preliminary Decision Memorandum is included as an appendix to this notice. The Preliminary Decision Memorandum is a public document and is on file electronically via Enforcement and Compliance's Antidumping and Countervailing Duty Centralized Electronic System (ACCESS). ACCESS is available to registered users at https://access.trade.gov. In addition, a complete version of the Preliminary Decision Memorandum can be accessed directly at https://access.trade/gov/public/FRNoticesListLayout.aspx.

³ See Memorandum, “Decision Memorandum for the Preliminary Results of the 2020-2021 Countervailing Duty Administrative Review of Common Alloy Aluminum Sheet from the Republic of Turkey,” dated concurrently with, and hereby adopted by, this notice (Preliminary Decision Memorandum).

Scope of the Order

The merchandise covered by the order is CAAS from Turkey. CAAS is a flat-rolled aluminum product having a thickness of 6.3 mm or less, but greater than 0.2 mm, in coils or cut-to-length, regardless of width. For a complete description of the scope of this order, see the Preliminary Decision Memorandum.

Methodology

Commerce is conducting this administrative review in accordance with section 751(a)(1)(A) of the Tariff Act of 1930, as amended (the Act). For each of the subsidy programs preliminarily found to be countervailable, Commerce preliminarily determines that there is a subsidy, i.e., a financial contribution from an authority that gives rise to a benefit to the recipient and that the subsidy is specific.⁴ For a full description of the methodology underlying Commerce's preliminary conclusions, see the Preliminary Decision Memorandum.

⁴ See sections 771(5)(B) and (D) of the Act regarding financial contribution; section 771(5)(E) of the Act regarding benefit; and section 771(5A) of the Act regarding specificity.

Companies Not Selected for Individual Examination

The Act and Commerce's regulations do not directly address the subsidy rate to be applied to companies not selected for individual examination where Commerce limits its examination in an administrative review pursuant to section 777A(e)(2) of the Act. However, Commerce normally determines the rates for non-selected companies in reviews in a manner that is consistent with section 705(c)(5) of the Act, which provides instructions for calculating the all-others rate in an investigation. Section 777A(e)(2) of the Act provides that “the individual countervailable subsidy rates determined under subparagraph (A) shall be used to determine the all-others rate under section 705(c)(5) {of the Act}.” Section 705(c)(5)(A) of the Act states that for companies not investigated, in general, we will determine an all-others rate by weight averaging the countervailable subsidy rates established for each of the companies individually investigated, excluding zero and de minimis rates or any rates based solely on the facts available.

Accordingly, to determine the rate for companies not selected for individual examination, Commerce's practice is to weight average the net subsidy rates for the selected mandatory respondents, excluding rates that are zero, de minimis, or based entirely on facts available.⁵ We preliminarily determine that Assan and Teknik received countervailable subsidies that are above de minimis and are not based entirely on facts available for 2020. Therefore, we preliminarily determine to apply the simple average of the net subsidy rates calculated for Assan and Teknik to the non-selected companies for 2020.⁶ Assan is the only mandatory respondent with a calculated rate above de minimis and not based entirely on facts available for 2021. Therefore, we are preliminarily assigning Assan's net subsidy rate to the non-selected companies for 2021. The sole company for which a review was requested, and which were not selected as mandatory respondents or found to be cross owned with a mandatory respondent, was P.M.S. Metal Profil Aluminyum Sanayi Ve Ticaret A.S.

⁵ See, e.g., Certain Pasta from Italy: Final Results of the 13th (2008) Countervailing Duty Administrative Review, 75 FR 37386, 37387 (June 29, 2010).

⁶ See Memorandum, “Calculation of Subsidy Rate for Non-Selected Companies Under Review,” dated concurrently with this memorandum.

Preliminary Results of Review

As a result of this review, we preliminarily determine that, for 2020 and 2021, the following estimated countervailable subsidy rates exist:

Company | Subsidy rate 2020 (percent ad valorem) | Subsidy rate 2021 (percent ad valorem)
Assan Aluminyum Sanayi ve Ticaret A.S | 3.62 | 1.18
Teknik Aluminyum Sanayi A.S | 1.11 | 0.63
Companies Not Selected for Individual Review | 2.37 | 1.18

Assessment Rates

In accordance with 19 CFR 351.221(b)(4)(i), Commerce preliminarily assigned a subsidy rate in the amount for the producer/exporter shown above. Upon completion of this administrative review, consistent with section 751(a)(1) of the Act and 19 CFR 351.212(b)(2), Commerce shall determine, and U.S. Customs and Border Protection (CBP) shall assess, countervailing duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Pursuant to section 751(a)(2)(C) of the Act, Commerce intends to instruct CBP to collect cash deposits in the amounts indicated for the producer/exporter listed above with regard to shipments of subject merchandise entered or withdrawn from warehouse, for consumption on or after the date of publication of the final results of this review. For all non-reviewed firms, CBP will continue to collect cash deposits of estimated countervailable duties at the all-others rate or the most recent company-specific rate applicable to the company, as appropriate. These cash deposit requirements, when imposed, shall remain in effect until further notice.

Disclosure

Commerce intends to disclose its calculations and analysis performed in reaching the preliminary results within five days of publication of these preliminary results, in accordance with 19 CFR 351.224(b).

Public Comment

Case briefs or other written documents may be submitted to the Assistant Secretary for Enforcement and Compliance.⁷ A timeline for the submission of case and rebuttal briefs and written comments will be provided to interested parties at a later date.

⁷ See 19 CFR 351.309(c) and (d).

Pursuant to 19 CFR 351.301(c) and (d)(2), parties who wish to submit case or rebuttal briefs in this review are requested to submit for each argument: (1) a statement of the issue; (2) a brief summary of the argument; and (3) a table of authorities. All briefs must be filed electronically using ACCESS. Note that Commerce has temporarily modified certain of its requirements for serving documents containing business proprietary information, until further notice.⁸

⁸ See Temporary Rule Modifying AD/CVD Service Requirements Due to COVID-19; Extension of Effective Period, 85 FR 41363 (July 10, 2020).

Pursuant to 19 CFR 351.310(c), interested parties who wish to request a hearing, limited to issues raised in the case and rebuttal briefs, must do so within 30 days after the date of publication of this notice by submitting a written request to the Assistant Secretary for Enforcement and Compliance.⁹ Requests should contain: (1) the party's name, address, and telephone number; (2) the number of participants and whether a participant is a foreign national; and (3) a list of the issues to be discussed. If a hearing request is made, Commerce intends to hold the hearing at a time and date to be determined. Parties should confirm by telephone the date, time, and location of the hearing two days before the scheduled date.

⁹ See 19 CFR 351.310(c).

Unless the deadline is extended, Commerce intends to issue the final results of this administrative review, which will include the results of Commerce's analysis of the issues raised in the case briefs, within 120 days after the date of the preliminary results, pursuant to section 751(a)(3)(A) of the Act and 19 CFR 351.213(h)(1).

Notification to Interested Parties

These preliminary results are issued and published pursuant to sections 751(a)(1) and 777(i)(1) of the Act, and 19 CFR 351.221(b)(4).

Dated: April 28, 2023.
Lisa W. Wang,
Assistant Secretary for Enforcement and Compliance.

Appendix

List of Topics Discussed in the Issues and Decision Memorandum

I. Summary

II. Background

III. Period of Review

IV. Scope of the Order

V. Rate for Non-Selected Companies

VI. Subsidies Valuation Information

VII. Benchmarks and Interest Rates

VIII. Use of Facts Otherwise Available and Application of Adverse Inferences

IX. Analysis of Programs

X. Recommendation

[FR Doc. 2023-09961 Filed 5-9-23; 8:45 am]

BILLING CODE 3510-DS-P